DEPARTMENT OF ENERGY

Federal Energy Regulatory Commission

18 CFR Parts 1b, 2, 157, and 380

[Docket No. RM15-26-000; Order No. 821]

Transferring Certain Dispute Resolution Service Matters to the Commission's Landowner Helpline

AGENCY: Federal Energy Regulatory Commission, Department of Energy (DOE).

ACTION: Final rule.

SUMMARY: The Commission is revising its regulations to reflect an internal reorganization. On June 14, 2013, the Dispute Resolution Service moved from the Commission's Office of Administrative Litigation (OAL) to the Commission's Office of Administrative Law Judges (OALJ), and the resulting new office was named the Office of Administrative Law Judges and Dispute Resolution (OALJDR). On January 11, 2015, the Commission designated a Landowner Helpline function in the OALJDR. The revised regulations substitute the Commission's recently established Landowner Helpline in place of the Commission's Dispute Resolution Service (DRS) as the contact for handling dispute-related calls, emails, and letters, pertaining to the construction and operation of jurisdictional infrastructure projects. This revision does not preclude disputants from utilizing other means to address disputes at the Commission. The transfer of responsibility for dispute-related calls, emails, and letters pertaining to infrastructure projects to the Landowner Helpline reflects an allocation of dedicated resources to serve the public interest.

DATES: This rule will become effective March 3, 2016.

FOR FURTHER INFORMATION CONTACT: Thomas Sharp, Office of the General Counsel, 888 First Street NE., Washington, DC 20426, 202-502-6461, thomas.sharp@ferc.gov.

SUPPLEMENTARY INFORMATION:

Order No. 821

Final Rule

(Issued January 21, 2016)

1. 1. By this instant Final Rule, the Commission is revising its regulations ¹ to substitute the Commission's recently established Landowner Helpline in place of the Commission's Dispute Resolution Service (DRS) as the point of contact for dispute-related calls, emails, and letters, pertaining to the construction or operation of jurisdictional natural gas and hydroelectric projects. The Commission is implementing this Final Rule as a result of a recent internal reorganization, which designated a Landowner Helpline function in the Commission's Office of Administrative Law Judges and Dispute Resolution (OALJDR).

¹ 18 CFR 1b.21(g-h), 2.55(c)(1)(ii)(C), 157.203(d)(1)(iii)(D), and 380.15(c)(1)(ii)(C) (2015).

I. Background

2. The Commission's Enforcement Hotline has been in existence since June 1987. In April 1999, the Enforcement Hotline was codified under section 1b.21 of the Commission's regulations.² In addition to providing information to the public, and informal, non-binding staff opinions, any person may seek the Enforcement Hotline's assistance in the informal resolution of a dispute, provided that the dispute is not before the Commission in a docketed proceeding.³ The Enforcement Hotline is staffed by personnel from the Division of Investigations in the Office of Enforcement.

² 18 CFR 1b.21 (2015).

³ Id.

3. On April 15, 2010, the Commission substituted the DRS, with its expertise in conflict resolution, for the Enforcement Hotline as the contact for landowners that have unresolved disputes with natural gas companies following use of the companies' environmental complaint resolution procedure.⁴ The Commission also transferred the responsibility of dispute-related calls pertaining to the construction and operation of hydroelectric projects to DRS.⁵

⁴ Instant Final Rule Transferring Certain Enforcement Hotline Matters to the Dispute Resolution Service, 75 FR 21503, at 21504 (April 26, 2010); FERC Stat. & Regs. ¶ 31,308 (2010) (cross-referenced at 131 FERC ¶ 61,018 (2010)).

⁵ Id. These include calls to OEP's Division of Hydropower Administration and Compliance (DHAC) regarding compliance with hydroelectric project licensing conditions which DHAC elects to refer to DRS.

4. The Commission's regulations require that natural gas companies seeking automatic authorization for replacement facilities or blanket certificate authorization for a project under the Natural Gas Act (NGA) must provide all affected landowners with a description of the company's environmental complaint resolution procedures, including company contact telephone numbers which landowners can use to identify and resolve environmental mitigation problems and concerns during construction of the project and restoration of the right-of-way.⁶ Companies must also provide affected landowners with the current telephone number and email address of the DRS and instruct them that if they are not satisfied with the company's response to their complaints, they may contact the DRS.⁷

⁶ 18 CFR 157.203(d)(1)(iii) (2015).

⁷ 18 CFR 157.203(d)(1)(iii)(D) (2015).

5. Going forward, the above-described DRS responsibilities will be handled by the new OALJDR Landowner Helpline.

II. Discussion

6. This Final Rule amends 18 CFR 157.203(d)(1)(iii)(D) to substitute the Commission's recently established Landowner Helpline for the DRS Helpline as the contact for members of the public that have unresolved disputes with pipeline companies following use of the pipeline companies' environmental complaint resolution procedure.⁸ This Final Rule also removes and renumbers 18 CFR 1b.21 (g) and (h) to create 18 CFR 1b.22 (a) and (b), which substitutes the Commission's recently established Landowner Helpline for the DRS Helpline as the contact for any person affected by either the construction or operation of natural gas facilities under the NGA or by the construction or operation of a project under the Federal Power Act (FPA), who may wish to seek the informal resolution of a dispute. This final rule makes this same substitution in 18 CFR 2.55(c)(1)(ii)(C) and 18 CFR 380.15(c)(1)(ii)(C). These changes reflect the allocation of a dedicated Commission resource to serve the public interest.

⁸ Notwithstanding the name of the helpline, in accordance with section 1b.21(g), any person affected by a jurisdictional project—whether a landowner or not—may make use of the Landowner Helpline.

III. Information Collection Statement

7. Office of Management and Budget (OMB) regulations require OMB to approve certain information collection requirements imposed by agency rule.⁹ However, this instant Final Rule does not contain or modify any information collection requirements.

⁹ 5 CFR 1320.12 (2015).

IV. Environmental Analysis

8. The Commission is required to prepare an Environmental Assessment or an Environmental Impact Statement for any action that may have a significant adverse effect on the human environment.¹⁰ Part 380 of the Commission's regulations lists exemptions to the requirement to draft an Environmental Assessment or Environmental Impact Statement, and this rulemaking qualifies under the exemption for procedural, ministerial or internal administrative actions.¹¹

¹⁰ Order No. 486, Regulations Implementing the National Environmental Policy Act of 1969, 52 FR 47897 (Dec. 17, 1987), FERC Stats. & Regs. Preambles 1986-1990 ¶ 30,783 (1987).

¹¹ 18 CFR 380.4(a)(1) (2015).

V. Regulatory Flexibility Act

9. The Regulatory Flexibility Act of 1980 (RFA) ¹² generally requires a description and analysis of final rules that will have significant economic impact on a substantial number of small entities. This instant Final Rule concerns agency procedures. The Commission certifies that it will not have a significant economic impact upon participants in Commission proceedings. Therefore, an analysis under the RFA is thus not required.

¹² 5 U.S.C. 601-612 (2012).

VI. Document Availability

10. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington, DC 20426.

11. From the Commission's Home Page on the Internet, this information is available on eLibrary. The full text of this document is available on eLibrary in PDF and Microsoft Word format for viewing, printing, and/or downloading. To access this document in eLibrary, type the docket number excluding the last three digits of this document in the docket number field.

12. User assistance is available for eLibrary and the Commission's Web site during normal business hours from FERC Online Support at 202-502-6652 (toll free at 1-866-208-3676) or email at ferconlinesupport@ferc.gov, or the Public Reference Room at (202) 502-8371, TTY (202) 502-8659. Email the Public Reference Room at public.referenceroom@ferc.gov.

VII. Effective Date and Congressional Notification

13. These regulations are effective as an instant Final Rule without a period for public comment. Under 5 U.S.C. 533(b), notice and comment procedures are unnecessary where a rulemaking concerns only agency procedure or practice, or where the agency finds that notice and comment is unnecessary. This rule concerns only matters of agency procedure, and will not significantly affect regulated entities or the general public. The Commission has determined, with the concurrence of the Administrator of the Office of Information and Regulatory Affairs of OMB, that this rule is not a “major rule” as defined in section 351 of the Small Business Regulatory Enforcement Fairness Act of 1996.

14. These regulations are effective March 3, 2016.

List of Subjects

18 CFR Part 1b

Investigations.

18 CFR Part 2

Administrative practice and procedure, Electric utilities, Natural gas, Pipelines, Reporting and recordkeeping requirements.

18 CFR Part 157

Administrative practice and procedure, Natural gas, Reporting and recordkeeping requirements.

18 CFR Part 380

Environmental impact statements, Reporting and recordkeeping requirements.

By the Commission.
Issued: January 21, 2016.
Nathaniel J. Davis, Sr.,
Deputy Secretary.

In consideration of the foregoing, the Commission amends Parts 1b, 2, 157, and 380, Chapter I, Title 18, Code of Federal Regulations, as follows.

PART 1b—RULES RELATING TO INVESTIGATIONS

1. The authority citation for Part 1 continues to read as follows:

Authority: 15 U.S.C. 717-717z, 3301-3432; 16 U.S.C. 792-828c, 2601-2645; 42 U.S.C. 7101-7352; 49 U.S.C. 60502; 49 App. U.S.C. 1-85 (1988); E.O. 12009, 3 CFR 1978 Comp., p. 142.

§ 1b.21 [Amended]

2. Section 1b.21 is amended by removing paragraphs (g) and (h).

3. Section 1b.22 is added to read as follows:

§ 1b.22 Landowner Helpline.

(a) Any person affected by either the construction or operation of a certificated or authorized natural gas project under the Natural Gas Act or by the construction or operation of a project under the Federal Power Act may seek the informal resolution of a dispute by contacting the Commission's Landowner Helpline. The Commission's Landowner Helpline may be reached by calling toll-free at 1-877-337-2237, or by email at LandownerHelp@ferc.gov, or writing to: Commission's Landowner Helpline, Federal Energy Regulatory Commission, 888 First Street NE., Washington, DC 20426.

(b) Any person who contacts the Landowner Helpline is not precluded from filing a formal action with the Commission if discussions assisted by the Landowner Helpline staff are unsuccessful at resolving the matter. A caller may terminate the use of alternative dispute resolution procedures at any time.

PART 2—GENERAL POLICY AND INTERPRETATIONS

4. The authority citation for Part 2 continues to read as follows:

Authority: 5 U.S.C. 601; 15 U.S.C. 717-717z, 3301-3432; 16 U.S.C. 792-828c, 2601-2645; 42 U.S.C. 4321-4370h, 7101-7352.

5. Section 2.55(c)(1)(ii)(C) is revised to read as follows:

§ 2.55 Auxiliary installations and replacement facilities.

* * * * *

(c) * * *

(1) * * *

(ii) * * *

(C) A description of the Commission's Landowner Helpline, which an affected person may contact to seek an informal resolution of a dispute as explained in § 1b.22(a) of this chapter and the Landowner Helpline number.

* * * * *

PART 157—APPLICATIONS FOR CERTIFICATES OF PUBLIC CONVENIENCE AND NECESSITY AND FOR ORDERS PERMITTING AND APPROVING ABANDONMENT UNDER SECTION 7 OF THE NATURAL GAS ACT

6. The authority citation for Part 157 continues to read as follows:

Authority: 15 U.S.C. 717-717z.

7. Section 157.203(d)(1)(iii)(D) is revised to read as follows:

§ 157.203 Blanket certification.

* * * * *

(d) * * *

(1) * * *

(iii) * * *

(D) Instruct landowners that, if they are still not satisfied with the response, they may contact the Commission's Landowner Helpline at the current telephone number and email address, which is to be provided in the notification.

* * * * *

PART 380—REGULATIONS IMPLEMENTING THE NATIONAL ENVIRONMENTAL POLICY ACT

8. The authority citation for Part 380 continues to read as follows:

Authority: 42 U.S.C. 4321-4370h, 7101-7352; E.O. 12009, 3 CFR 1978 Comp., p. 142.

9. Section 380.15(c)(1)(ii)(C) is amended to read as follows:

§ 380.15 Siting and maintenance requirements.

* * * * *

(c) * * *

(1) * * *

(ii) * * *

(C) A description of the Commission's Landowner Helpline, which an affected person may contact to seek an informal resolution of a dispute as explained in § 1b.22(a) of this chapter and the Landowner Helpline number.

* * * * *

[FR Doc. 2016-01812 Filed 2-1-16; 8:45 am]

BILLING CODE 6717-01-P